DEPARTMENT OF TRANSPORTATION

National Highway Traffic Safety Administration

[Docket No. NHTSA-2014-0036]

National Emergency Medical Services Advisory Council (NEMSAC); Notice of Federal Advisory Committee Meeting

AGENCY: National Highway Traffic Safety Administration (NHTSA), U.S. Department of Transportation (DOT).

ACTION: Meeting Notice—National Emergency Medical Services Advisory Council.

SUMMARY: The NHTSA announces a meeting of NEMSAC to be held in the Metropolitan Washington, DC, area. This notice announces the date, time, and location of the meeting, which will be open to the public, as well as opportunities for public input to the NEMSAC. The purpose of NEMSAC, a nationally recognized council of emergency medical services representatives and consumers, is to advise and consult with DOT and the Federal Interagency Committee on EMS (FICEMS) on matters relating to emergency medical services (EMS).

DATES: This open meeting will be held on April 23, 2014, from 8 a.m. to 2:30 p.m. EDT, and on April 24, 2014, from 8 a.m. to 12 p.m. EDT. The NEMSAC will meet in closed session on April 23, 2014 from 2:30 p.m. to 3 p.m. to discuss administrative and travel procedures for members. A public comment period will take place on April 23, 2014, between 1 p.m. and 1:30 p.m. EDT and April 24, 2014, between 9 a.m. and 9:30 a.m. EDT. Written comments from the public must be received no later than April 18, 2014.

ADDRESSES: The meeting will be held at the FHI 360 Conference Center on the eighth floor of 1825 Connecticut Avenue NW., Washington, DC 20009.

FOR FURTHER INFORMATION CONTACT: Drew Dawson, Director, U.S. Department of Transportation, Office of Emergency Medical Services, 1200 New Jersey Avenue SE., NTI-140, Washington, DC 20590; telephone 202-366-9966; email Drew.Dawson@dot.gov.

SUPPLEMENTARY INFORMATION: Notice of this meeting is given under the Federal Advisory Committee Act, Pub. L. No. 92-463, as amended (5 U.S.C. App.). The NEMSAC is authorized under Section 31108 of the Moving Ahead with Progress in the 21st Century Act of 2012. The NEMSAC will meet on Wednesday and Thursday, April 23-24, 2014, at the FHI 360 Conference Center on the eighth floor of 1825 Connecticut Avenue NW., Washington, DC 20009.

Tentative Agenda of National EMS Advisory Council Meeting, April 23-24, 2014

The tentative agenda includes the following:

Wednesday, April 23, 2014 (8 a.m. to 2:30 p.m. EDT)

(1) Opening Remarks

(2) Disclosure of Conflicts of Interests by Members

(3) Reports of liaisons from the Departments of Transportation, Homeland Security, and Health & Human Services

(4) Presentation and discussion on ground ambulance crash statistics and ongoing efforts by DOT to improve ambulance safety

(5) Presentation of the draft NEMSAC Annual Report

(6) Presentation, Discussion and Possible Adoption of Reports and Recommendations from the following NEMSAC Workgroups:

a. Patient Protection and Affordable Care Act

b. Revision of the EMS Education Agenda for the Future

c. EMS Agenda for the Future

d. Culture of Safety

(7) Other Business of the Council

(8) Public Comment Period (1 p.m. to 1:30 p.m. EDT)

(9) Closed Administrative Session to discuss travel procedures (2:30 p.m. to 3 p.m.)

(10) Workgroup Breakout Sessions (3:00 p.m.-5:00 p.m. EDT)

Thursday, April 24, 2014 (8 a.m. to 12 p.m. EDT)

(1) Unfinished Business/Continued Discussion from Previous Day

(2) Public Comment Period (9 a.m. to 9:30 a.m. EDT)

(3) Adoption of a NEMSAC Annual Report

(4) Annual Election of Chair and Vice-Chair

(5) Next Steps and Adjourn

On Wednesday, April 23, 2014, from 2:30 p.m. to 3 p.m. EDT the NEMSAC will meet in a closed session to discuss administrative and travel procedures with members. On Wednesday, April 23, 2014, from 3 p.m. to 5 p.m. EDT, the NEMSAC workgroups will meet in breakout sessions at the same location. These sessions are open for public attendance, but their agendas do not accommodate public comment. A final agenda as well as meeting materials will be available to the public online through www.EMS.gov on or before April 11, 2014.

Registration Information: This meeting will be open to the public; however, pre-registration is requested. Individuals wishing to attend must register online at https://www.signup4.net/Public/ap.aspx?EID=DOTN13E no later than April 18, 2014. There will not be a teleconference option for this meeting.

Public Comment: Members of the public are encouraged to comment directly to the NEMSAC. Those who wish to make comments on Wednesday, April 23, 2014, between 1 p.m. and 1:30 p.m. EDT or Thursday, April 24, 2014, between 9 a.m. and 9:30 a.m. EDT should indicate their preference when checking in for the meeting. In order to allow as many people as possible to speak, speakers are requested to limit their remarks to 5 minutes. Written comments from members of the public will be distributed to NEMSAC members at the meeting and should reach the NHTSA Office of EMS no later than April 18, 2014. Written comments may be submitted by either one of the following methods: (1) you may submit comments by email: nemsac@dot.gov or (2) you may submit comments by fax: (202) 366-7149.

Future Meeting Dates: NHTSA is also announcing future NEMSAC meeting dates for 2014. The NEMSAC will meet in Washington, DC at sites yet to be determined on September 9-10, 2014 and December 3-4, 2014.

Issued on: Dated: April 3, 2014.
Jeffrey P. Michael,
Associate Administrator for Research and Program Development.

[FR Doc. 2014-07802 Filed 4-7-14; 8:45 am]

BILLING CODE 4910-59-P